DEPARTMENT OF TRANSPORTATION

Federal Railroad Administration

[Docket Number FRA-2015-0043]

Petition for Waiver of Compliance

In accordance with part 211 of title 49 Code of Federal Regulations (CFR), this document provides the public notice that by a document dated April 25, 2015, the Historic Railroad Equipment Association (HREA) has petitioned the Federal Railroad Administration (FRA) for a waiver of compliance from certain provisions of the Federal railroad safety regulations contained at 49 CFR part 215—Railroad Freight Car Safety Standards and part 223—Safety Glazing Standards—Locomotives, Passenger Cars and Cabooses. FRA assigned the petition Docket Number FRA-2015-0043.

Mr. David Kloke, the principal partner in HREA, is the builder and operator of the Lincoln Funeral Car replica currently on exhibition to celebrate the 150th anniversary of the operation of the Lincoln Funeral Train in 1865. Mr. Kloke is also the builder of the Leviathan #63 and the York, reproductions of 1860s era steam locomotives that are currently in operation. The Lincoln Funeral Car is to be pulled by these locomotives at various tourist railroads to commemorate the operation of the Lincoln Funeral Train. HREA requests a waiver from 49 CFR 215.123—Defective couplers, 215.127—Defective draft arrangement, and 215.129—Defective cushioning device as it pertains to the use of a drawbar instead of a coupler. The Lincoln Funeral Car will be attached to the locomotives by use of a drawbar. Further, HREA requests a waiver from 49 CFR 223.3(b)(3) as it pertains to the use of tempered automobile safety glazing instead of FRA Type I glazing.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by November 16, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on September 23, 2015.
Ron Hynes,
Director, Office of Technical Oversight.

[FR Doc. 2015-24697 Filed 9-29-15; 8:45 am]

BILLING CODE 4910-06-P